DEPARTMENT OF COMMERCE

Office of the Secretary

[Docket No.: 130514469-3469-01]

Draft Initial Comprehensive Plan and Draft Programmatic Environmental Assessment

AGENCY: Office of the Secretary, U.S. Department of Commerce.

ACTION: Notice of availability; request for comments.

SUMMARY: In accordance with the Resources and Ecosystems Sustainability, Tourist Opportunities, and Revived Economies of the Gulf States Act (RESTORE Act), the Secretary of Commerce, as Chair of the Gulf Coast Ecosystem Restoration Council (Council), announces the availability of a Draft Initial Comprehensive Plan (Draft Plan) to restore and protect the Gulf Coast region. Council Members also have compiled preliminary lists of ecosystem restoration projects that are “authorized but not yet commenced” and the full Council is in the process of evaluating these lists; the Council announces the availability of these preliminary lists. Finally, the Council has drafted, and announces the availability of, a Draft Programmatic Environmental Assessment (Draft PEA) for the Draft Plan. These documents are available for public review and comment.

DATES: To ensure consideration, we must receive your written comments on the Draft Plan and Draft PEA by June 24, 2013.

ADDRESSES: You may submit comments on the Draft Plan, the preliminary lists of “authorized but not yet commenced” ecosystem restoration projects, and Draft PEA by either of the following methods:

• Electronic Submission: Submit all electronic public comments via www.restorethegulf.gov.

• Mail/Commercial Delivery: Please send a copy of your comments to Gulf Coast Ecosystem Restoration Council, c/o U.S. Department of Commerce, 1401 Constitution Avenue NW., Room 4077, Washington, DC 20230.

FOR FURTHER INFORMATION CONTACT: The Council can be reached at restorecouncil@doc.gov.

SUPPLEMENTARY INFORMATION:

Background: In 2010, the Deepwater Horizon oil spill caused extensive damage to the Gulf Coast's natural resources, devastating the economies and communities that rely on it. In an effort to help the region rebuild in the wake of the spill, Congress passed and the President signed the Resources and Ecosystems Sustainability, Tourist Opportunities, and Revived Economies of the Gulf Coast States Act of 2012 (“RESTORE Act”). Public Law 112-141, §§ 1601-1608, 126 Stat. 588 (Jul. 6, 2012). The RESTORE Act created the Gulf Coast Ecosystem Restoration Trust Fund (Trust Fund) and dedicates eighty percent of any civil and administrative penalties paid under the Clean Water Act, after the date of enactment, by parties responsible for the Deepwater Horizon oil spill to the Trust Fund for ecosystem restoration, economic recovery, and tourism promotion in the Gulf Coast region. The ultimate amount of administrative and civil penalties potentially available to the Trust Fund is currently unknown because Clean Water Act claims against several responsible parties are outstanding. On January 3, 2013, however, the United States announced that Transocean Deepwater Inc. and related entities agreed to pay $1 billion in civil penalties for violating the Clean Water Act in relation to their conduct in the Deepwater Horizon oil spill. That settlement was approved by the court in February, and Transocean paid the first installment of its civil penalties to the United States at the end of March. These funds are subject to the RESTORE Act.

In addition to creating the Trust Fund, the RESTORE Act established the Gulf Coast Ecosystem Restoration Council (Council), which is chaired by the Secretary of Commerce and includes the Governors of Alabama, Florida, Louisiana, Mississippi, and Texas, and the Secretaries of the U.S. Departments of Agriculture, the Army, Homeland Security, and the Interior, and the Administrator of the U.S. Environmental Protection Agency. Among other things, the Act requires the Council to publish an Initial Comprehensive Plan to restore and protect the Gulf Coast region after notice and an opportunity for public comment.

This Draft Plan sets forth the Council's overarching goals for restoring and protecting the natural resources, ecosystems, fisheries, marine and wildlife habitats, beaches, coastal wetlands, and economy of the Gulf Coast region. Additionally, the Plan: (1) incorporates the recommendations and findings of the Gulf Coast Ecosystem Restoration Task Force (Task Force) as set forth in the Gulf Coast Ecosystem Restoration Task Force Strategy (Strategy); (2) describes how Council-Selected ecosystem restoration activities will be solicited, evaluated, and funded; (3) outlines the process for the development, review, and approval of State Expenditure Plans; and, (4) provides the Council's next steps. In addition, the Council as a whole is in the process of reviewing and evaluating preliminary lists submitted by individual Council Members in order to compile, as required by the RESTORE Act, “a list of any project or program authorized prior to the date of enactment of [the Act] but not yet commenced, the completion of which would further the purposes and goals of [the Act].”

The Council has responsibility over the expenditure of sixty percent of the funds made available from the Trust Fund. The Council will administer thirty percent, plus fifty percent of the interest on Trust Fund monies, for ecosystem restoration and protection according to the Plan. The other thirty percent will be allocated to the Gulf States as described in the RESTORE Act and spent according to individual State Expenditure Plans. The State Expenditure Plans must be consistent with the goals and objectives of the Comprehensive Plan and are subject to the Council's approval. Remaining RESTORE Act funds are not within Council responsibility.

The Council is seeking public and tribal comment on all aspects of the Draft Plan. In particular, the Council seeks public and tribal comment on the following:

(1) The Draft Plan includes restoration Priority Criteria established in the RESTORE Act and applicable to the Council's selection of projects and programs for at least the first three years after publication of the Initial Comprehensive Plan. The Council is considering further defining these criteria and developing additional criteria for consideration.

a. Should the Council further define the Priority Criteria? If so, how?

b. Should the Council develop additional criteria for consideration now or in the future? If so, what should they be?

(2) The “Objectives” section of the Draft Plan describes the broad types of activities the Council envisions funding in order to achieve its goals.

a. Should the Council consider other Objectives at this juncture? If not, at what point, if any, should the Council consider additional Objectives? If so, what should they be?

b. Similarly, should the Council eliminate any of the Objectives?

c. How should the Council prioritize its restoration Objectives?

(3) The Council is considering establishing or engaging advisory committees as may be necessary, such as a citizens' advisory committee and/or a science advisory committee, to provide input to the Council in carrying out its responsibilities under the RESTORE Act.

a. Should the Council establish any advisory committees?

b. If so, what type of advisory committees should the Council establish? How should the Council structure such advisory committees? What role should such advisory committees play?

In accordance with the National Environmental Policy Act (NEPA), 42 U.S.C. §§ 4321-4335, and the Council on Environmental Quality's regulations implementing NEPA, 40 C.F.R. Parts 1500-1507, the Council has prepared a Draft PEA on the Draft Plan. The Council is also seeking public comment on all aspects of the Draft PEA in addition to all aspects of the Draft Plan and the preliminary list of “authorized but not yet commenced” ecosystem restoration projects compiled by Council Members.

Document Availability: Copies of the Draft Plan, the preliminary list of “authorized but not yet commenced” projects and programs, and Draft PEA are available at the following office during regular business hours: Department of Commerce, 1401 Constitution Avenue NW., Room 4077, Washington, DC 20230.

Electronic versions of both documents can be viewed and downloaded at www.restorethegulf.gov.

Legal Authority: The statutory program authority for the Draft Initial Comprehensive Plan is found in subtitle F of the Moving Ahead for Progress in the 21st Century Act (“MAP-21”), Pub. L. 112-141, 126 Stat. 405 (Jul. 6, 2012).

Dated: May 22, 2013.
Rebecca M. Blank,
Acting Secretary of Commerce, Chair, Gulf Coast Ecosystem Restoration Council.

[FR Doc. 2013-12608 Filed 5-28-13; 8:45 am]

BILLING CODE 3510-EA-P